DEPARTMENT OF COMMERCE

National Oceanic and Atmospheric Administration

RIN: 0648-XH69

Pacific Fishery Management Council; Public Meeting

AGENCY: National Marine Fisheries Service (NMFS), National Oceanic and Atmospheric Administration (NOAA), Commerce.

ACTION: Notice of public meetings.

SUMMARY: The Pacific Fishery Management Council's (Council) Salmon Advisory Subpanel (SAS) and Salmon Technical Team (STT) will hold work sessions by telephone conference, which are open to the public, to develop recommendations for the June 2008 Council meeting.

DATES: The Salmon Advisory Subpanel telephone conference will be held Wednesday, June 4, 2008, from 1 p.m. to 4 p.m. The Salmon Technical Team telephone conference will be held on Thursday, June 5, 2008, from 9 a.m. to 1 p.m.

ADDRESSES: A listening station for both teleconferences will be available at the Pacific Fishery Management Council, Small Conference Room, 7700 NE Ambassador Place, Suite 101, Portland, OR 97220-1384; telephone: (503) 820-2280.

Council address: Pacific Fishery Management Council, 7700 NE Ambassador Place, Suite 101, Portland, OR 97220-1384.

FOR FURTHER INFORMATION CONTACT: Mr. Chuck Tracy, Salmon Management Staff Officer, Pacific Fishery Management Council: (503) 820-2280.

SUPPLEMENTARY INFORMATION: The purpose of the work session is to review information in the Council's June meeting briefing book related to salmon management, and to develop comments and recommendations for consideration at the June 2008 Council meeting.Although non-emergency issues not contained in the meeting agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 1, 2008.
Tracey L. Thompson,
Acting Director, Office of Sustainable Fisheries, National Marine Fisheries Service.

[FR Doc. E8-9914 Filed 5-5-08; 8:45 am]

BILLING CODE 3510-22-S